NATIONAL CREDIT UNION ADMINISTRATION

Sunshine Act Meeting

SUMMARY: Due to the COVID-19 Pandemic, the meeting will be open to the public via live webcast only. Visit the agency's homepage (www.ncua.gov.) and access the provided webcast link.

DATES: 10 a.m., Thursday, July 30, 2020.

STATUS: This meeting will be open to the public.

MATTERS TO BE CONSIDERED:

1. NCUA Rules and Regulations, Chartering and Field of Membership.

2. NCUA Rules and Regulations, Transition to CECL Methodology.

3. NCUA Rules and Regulations, Fees Paid By Federal Credit Unions.

4. Request for Comment, Overhead Transfer Rate and Operating Fee Methodologies.

5. Board Briefing, 2020 Mid-Session Budget.

CONTACT PERSON FOR MORE INFORMATION: Gerard Poliquin, Secretary of the Board, Telephone: 703-518-6304.

Gerard Poliquin,
Secretary of the Board.

[FR Doc. 2020-16366 Filed 7-24-20; 11:15 am]

BILLING CODE 7535-01-P